DEPARTMENT OF TRANSPORTATION

Federal Aviation Administration

High Density Traffic Airports; Slot Allocation and Transfer Method

AGENCY: Federal Aviation Administration (FAA), DOT.

ACTION: Notice of waiver of the slot usage requirement.

SUMMARY: This action waives the minimum slot usage requirement for slots and slot exemptions at the four high density traffic airports. As a result of the recent terrorist attacks, the temporary cessation of air service nationwide, and the temporary reduction in air carrier flight schedules, a waiver is necessary to assist carriers in resuming service and planning future schedules. This waiver is effective through April 6, 2002, which is the end of the winter scheduling season.

EFFECTIVE DATE: September 11, 2001.

FOR FURTHER INFORMATION CONTACT: Lorelei Peter, Office of the Chief Counsel, AGC-220, Federal Aviation Administration, 800 Independence Avenue, S.W., Washington, DC 20591; telephone number 202-267-3073.

SUPPLEMENTARY INFORMATION:

Background

Following the aircraft hijackings and terrorist attacks on September 11, 2001, the FAA temporarily ceased all non-military flights in the United States and required the adoption of certain security measures prior to the resumption of commercial air service. Several air carriers have reduced flight schedules below previously planned levels in order to adjust to operational changes brought on by the new security requirements. Therefore, the agency finds it necessary to take action to assist carriers in managing their operations at the high density traffic airports as a result of the recent extraordinary events.

Waiver of the Slot Usage Requirement

The regulations governing slots and slot allocation provide that any slot not utilized at least 80 percent of the time over a 2-month period shall be recalled by the FAA (14 CFR 93.227(a)). Additionally, paragraph (j) of that section provides that the Chief Counsel may waive the slot usage requirement in the event of a highly unusual and unpredictable condition that is beyond the control of the slot holder and exists for more than nine days (14 CFR 93.227(j)). These two provisions are also applicable to slot exemptions.

The facts described above meet the criteria for a waiver under Section 93.227(j). Therefore, the FAA is waiving the minimum slot usage requirement in 14 CFR Section 93.227(a) for all slots and slot exemptions at the four high density traffic airports through April 6, 2002, which is the end of the winter scheduling season. Furthermore, the FAA advises that any carrier that chooses temporarily to return slots or slot exemptions to the FAA between now and April 6, 2002 may do so without jeopardizing the carrier's holding of the slots or slot exemptions.

For the purpose of determining slot usage, the FAA will treat allocated slots or slot exemptions as having been used whether or not a flight was actually operated using the slot or slot exemption during this period. This waver applies retroactively beginning on September 11, 2001, for the September-October reporting period, provided that the slot or slot exemption was not already subject to withdrawal for non-use. This waiver will remain in effect through April 6, 2002. Slot use or lose information for each slot or slot exemption must be filed with the FAA unless the slot or slot exemption has been returned for the entire reporting period. Carriers should report as used only those slots or slot exemptions that were actually operated during the reporting period.

Although many carriers have reduced service or are planning temporary flight reductions throughout the system, including at the high density airports, some may be planning slight increases or changes to scheduled flight times that impact their slot holdings at an airport. Carriers are strongly encouraged to work cooperatively with other airlines in order to maximize the use of available slots for any carrier desiring to initiate new or rescheduled service. The FAA will work with carriers to the maximum extent practical to facilitate schedule adjustments during this interim period.

The FAA will continue to monitor any developments that may impact airlines' ability to meet the minimum usage requirements at any of the high density traffic airports. This waiver supersedes the agency's policy statement issued on September 13, 2001, and published in the Federal Register on September 18, 2001 (66 FR 48157), which addressed slot usage at LaGuardia Airport.

Issued in Washington, DC on October 4, 2001.
David G. Leitch,
Chief Counsel.

[FR Doc. 01-25401 Filed 10-4-01; 3:23 pm]

BILLING CODE 4910-13-M